FEDERAL LABOR RELATIONS AUTHORITY

5 CFR Part 2416

Enforcement of Nondiscrimination on the Basis of Disability in Programs or Activities Conducted by the Federal Labor Relations Authority; Correction

AGENCY: Federal Labor Relations Authority.

ACTION: Correcting amendments.

SUMMARY: This document contains corrections to technical amendments to regulations which were published in the Federal Register of Thursday, October 8, 2009. The regulations relate to the enforcement of nondiscrimination on the basis of disability in programs and activities conducted by the Federal Labor Relations Authority (Authority). The corrections being made will remove a requirement that the Authority conduct a self-appraisal of its policies and practices for compliance with section 504 of the Rehabilitation Act of 1973 by September 6, 1989.

DATES: Effective on January 1, 2011.

FOR FURTHER INFORMATION CONTACT: Rosa M. Koppel, Solicitor, (202) 218-7999.

SUPPLEMENTARY INFORMATION:

Background

The Authority published in the Federal Register of October 8, 2009 (74 FR 51741) a document containing technical amendments to 5 CFR parts 2415, 2416, 2424, and 2429 of the Authority's regulations. Although the preamble lists as technical amendments the deletion, as outdated, of section 2416.110 and the renumbering of section 2416.111 as section 2416.110, the document inadvertently omitted instructions that actually indicate this removal and renumbering. In addition, the document needs an instruction that the reservation of section numbers following the renumbered section 2416.111 be revised to include section numbers 2416.111 through 2416.129.

Need for Correction

As published, the regulations contain errors that need to be corrected.

List of Subjects in 5 CFR Part 2416

Government employees, Enforcement of nondiscrimination on the basis of disability in programs or activities conducted by the Federal Labor Relations Authority.

Accordingly, 5 CFR part 2416 is corrected by making the following correcting amendments:

PART 2416—ENFORCEMENT OF NONDISCRIMINATION ON THE BASIS OF DISABILITY IN PROGRAMS OR ACTIVITIES CONDUCTED BY THE FEDERAL LABOR RELATIONS AUTHORITY

1. The authority citation for part 2416 continues to read as follows:

Authority: 29 U.S.C. 794.

§ 2416.110 [Removed]

2. Section 2416.110 is removed.

§ 2416.11 [Redesignated as moved § 2416.110]

3. Section 2416.111 is redesignated as § 2416.110.

Carol Waller Pope,
Chairman.

[FR Doc. 2010-19644 Filed 8-9-10; 8:45 am]

BILLING CODE 6727-01-P